DEPARTMENT OF DEFENSE

Department of the Navy

Meeting of the Chief of Naval Operations (CNO) Executive Panel

AGENCY: Department of the Navy, DoD.

ACTION: Notice of closed meeting.

SUMMARY: The CNO Executive Panel is to provide consensus advice to the Chief of Naval Operations. The meeting will consist of discussions on strategy, force structure, personnel and organizational issues facing the Navy.

DATES: The meeting will be held on Thursday, May 26, 2005, from 9 a.m. to 11 a.m.

ADDRESSES: The meeting will be held in the Center for Naval Analyses Multipurpose Room, 4825 Mark Center Drive, Alexandria, VA 22311.

FOR FURTHER INFORMATION CONTACT: Commander Erik Ross, CNO Executive Panel, 4825 Mark Center Drive, Alexandria, VA 22311, 703-681-4908.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of the meeting be closed to the public because they will be concerned with matters listed in section 552b(c)(1) of title 5, United States Code.

Dated: May 3, 2005.
I.C. Le Moyne Jr.,
Lieutenant, Judge Advocate General's Corps, U.S. Navy, Federal Register Liaison Officer.

[FR Doc. 05-9269 Filed 5-9-05; 8:45 am]

BILLING CODE 3810-FF-P